DEPARTMENT OF ENERGY

Federal Energy Regulatory Commission

[Docket No. RM12-3-000]

Revisions to Electric Quarterly Report Filing Process; Notice of Extended Availability of Sandbox Electronic Test Site

Take notice that the opportunity to use the Sandbox Electronic Test Site (ETS) has been extended until September 15, 2013. The ETS including a web interface and direct XML submission is available on the Commission's Web site at http://www.ferc.gov/docs-filing/eqr.asp. Instructions are also available within the ETS.

Order No. 770 ¹ revised the method for making Electric Quarterly Report (EQR) filings. The ETS will be ended on September 15 so that the system may be finalized and put into production for filing beginning on October 1, 2013.

¹ Revisions to Electric Quarterly Report Filing Process, Order No. 770, 77 FR 71288 (Nov. 30, 2012), FERC Stats. & Regs. ¶ 31,338 (2012).

Staff encourages users to create test accounts and submit simulated filings as often as possible while the sandbox is available. Staff invites users to email comments and questions concerning the ETS to eqr@ferc.gov. Please include “Sandbox Electronic Test Site” in the subject line of any such emails.

Further, market participants are encouraged to sign up for the Commission's EQR RSS feed at http://www.ferc.gov/xml/eqr.xml to ensure timely receipt of new and additional information concerning the filing of EQRs. Such information often will not be conveyed through notices such as this one.

Dated: August 23, 2013.
Nathaniel J. Davis, Sr.,
Deputy Secretary.

[FR Doc. 2013-21107 Filed 8-28-13; 8:45 am]

BILLING CODE 6717-01-P